SMALL BUSINESS ADMINISTRATION

[Declaration of Disaster #P012]

State of Florida; Amendment #1

In accordance with a notice received from the Department of Homeland Security—Federal Emergency Management Agency, effective August 21, 2003, the above numbered declaration is hereby amended to include Pasco County in the State of Florida as a disaster area due to damages caused by severe storms and flooding occurring on June 13, 2003 and continuing.

All other information remains the same, i.e., the deadline for filing applications for physical damage is September 29, 2003.

(Catalog of Federal Domestic Assistance Program Nos. 59008)
Dated: August 27, 2003.
Herbert L. Mitchell,
Associate Administrator for Disaster Assistance.

[FR Doc. 03-22423 Filed 9-2-03; 8:45 am]

BILLING CODE 8025-01-P